DEPARTMENT OF COMMERCE

National Oceanic and Atmospheric Administration

RIN 0648-XD288

North Pacific Fishery Management Council; Public Meetings

AGENCY: National Marine Fisheries Service (NMFS), National Oceanic and Atmospheric Administration (NOAA), Commerce.

ACTION: Notice of public meetings.

SUMMARY: The North Pacific Fishery Management Council's (Council) Observer Advisory Committee (OAC) will meet in Anchorage, AK.

DATES: The meetings will be held May 28-29, 2014. The meeting will be held from 10 a.m. to 5 p.m. on May 28th and from 8:30 a.m. to 3 p.m. on May 29th.

ADDRESSES: The meetings will be held at the Clarion Suites, 1110 8th Avenue, Heritage Room, Anchorage, AK.

Council address: North Pacific Fishery Management Council, 605 W. 4th Ave., Suite 306, Anchorage, AK 99501-2252.

FOR FURTHER INFORMATION CONTACT: Diana Evans, Council staff; telephone: (907) 271-2809.

SUPPLEMENTARY INFORMATION: The agenda items include updates on the program and electronic monitoring, review of the 2014 observer annual report, and review of regulatory amendment analyses on observers for tendering and the observer component of the CDQ Pacific cod amendment.

The Agenda is subject to change, and the latest version will be posted at http://www.npfmc.org/

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: May 7, 2014.
Tracey L. Thompson,
Acting Deputy Director, Office of Sustainable Fisheries, National Marine Fisheries Service.

[FR Doc. 2014-10811 Filed 5-9-14; 8:45 am]

BILLING CODE 3510-22-P